DEPARTMENT OF EDUCATION

A National Dialogue: The Secretary of Education's Commission on the Future of Higher Education

AGENCY: A National Dialogue: The Secretary of Education's Commission on the Future of Higher Education, U.S. Department of Education.

ACTION: Notice of meeting.

SUMMARY: This notice sets forth the schedule and proposed agenda of an upcoming meeting of A National Dialogue: The Secretary of Education's Commission on the Future of Higher Education, (Commission). The notice also describes the functions of the Commission. Notice of this meeting is required by section 10(a)(2) of the Federal Advisory Committee Act and is intended to notify the public of their opportunity to attend.

DATES: Thursday, December 8, 2005, and Friday, December 9, 2005.

Time: December 8, 2005: 1 p.m. to 5:30 p.m.; December 9, 2005: 8:30 a.m. to 1 p.m.

ADDRESSES: The Commission will meet in Nashville, TN, at the Hilton Nashville Downtown, 121 Fourth Avenue South, Nashville, TN.

FOR FURTHER INFORMATION CONTACT: Cheryl Oldham, Executive Director, A National Dialogue: The Secretary of Education's Commission on the Future of Higher Education, 400 Maryland Avenue, SW., Washington, DC 20202-3510; telephone: (202) 205-8741.

SUPPLEMENTARY INFORMATION: The Commission is established by the Secretary of Education to begin a national dialogue about the future of higher education in this country. The purpose of this Commission is to consider how best to improve our system of higher education to ensure that our graduates are well prepared to meet our future workforce needs and are able to participate fully in the changing economy. The Commission shall consider federal, state, and local and institutional roles in higher education and analyze whether the current goals of higher education are appropriate and achievable. The Commission will also focus on the increasing tuition costs and the perception of many families, particularly low-income families, that higher education is inaccessible.

The agenda for this second meeting will include panel presentations on the four areas of focus for the commission: access, accountability, affordability, and quality. A written report to the Secretary is due by August 1, 2006.

Individuals who will need accommodations for a disability in order to attend the meeting (e.g., interpreting services, assistive listening devices, or materials in alternative format) should notify Tracy Harris at (202) 260-3644 no later than November 28, 2005. We will attempt to meet requests for accommodations after this date but cannot guarantee their availability. The meeting site is accessible to individuals with disabilities.

Individuals interested in attending the meeting must register in advance because of limited space issues. Please contact Tracy Harris at (202) 260-3644 or by e-mail at Tracy.Harris@ed.gov.

Opportunities for public comment are available through the Commission's Web site at http://www.ed.gov/about/bdscomm/list/hiedfuture/index.html. Records are kept of all Commission proceedings and are available for public inspection at the staff office for the Commission's from the hours of 9 a.m. to 5 p.m.

Dated: November 3, 2005.
Margaret Spellings,
Secretary, U.S. Department of Education.

[FR Doc. 05-22301 Filed 11-8-05; 8:45 am]

BILLING CODE 4000-01-M